DEPARTMENT OF STATE

22 CFR Parts 22 and 51

RIN 1400-AC22

[Public Notice 5558]

Card Format Passport; Changes to Passport Fee Schedule

AGENCY: State Department.

ACTION: Proposed Rule.

SUMMARY: Section 7209 of the Intelligence Reform and Terrorism Prevention Act of 2004 (IRTPA), Public Law 108-458, 118 Stat. 3638 (Dec. 17, 2004), provides that U.S. citizens and nonimmigrant aliens may enter the U.S. only with passports or such alternative documents as the Secretary of Homeland Security may designate as satisfactorily establishing identity and citizenship. The statute requires that the Secretary of Homeland Security, in consultation with the Secretary of State, develop and implement a plan to require virtually all travelers entering the U.S. to present a passport, other document, or combination of documents, that are “deemed by the Secretary of Homeland Security to be sufficient to denote identity and citizenship. Section 7209 expressly limits the waiver of documentation requirements for U.S. citizens under section 215 (b) of the Immigration and Nationality Act (INA)¹ and eliminates the waiver of documentation requirements for categories of individuals for whom documentation requirements have previously been waived (citizens of Canada, Mexico, and Bermuda) under section 212 (d)(4) (B) of the INA.² U.S. citizens and nonimmigrant aliens from Canada, Mexico, and Bermuda will be required to comply with the new document requirements of section 7209.³ The legislation also requires that the Department of Homeland Security (DHS) and Department of State seek to facilitate the frequent travel of those living in border communities. This proposed rule addresses the travel facilitation requirement of this legislation. The administration's proposal to address the remainder of the legislative requirements as set forth in section 7209, called the Western Hemisphere Travel Initiative (WHTI), is being addressed in separate rulemakings.

¹ 8 U.S.C. 1185 (b).

² 8 U.S.C.1182 (d)(4)(B).

³ Section 7209 does not apply to Lawful Permanent Residents, who will continue to be able to enter the U.S. upon presentation of a valid Form I-551, Alien Registration Card, or other valid evidence of permanent resident status. Section 211 (b) of the INA, 8 U.S.C. 1181(b). It also does not apply to alien members of U.S. Armed Forces traveling under official orders. Section 284 of INA, 8 U.S.C. 1354. Additionally, section 7209 does not change current requirements for nonimmigrant aliens from anywhere other than Canada, Mexico, or Bermuda. See section 212 (d)(4)(B) of the INA, 8 U.S.C. 1182 (d)(4)(B) and 8 CFR 212.1.

The passport card is intended as a lower cost means of establishing identity and nationality for American citizens in two limited situations—for citizens crossing U.S. land borders and traveling by sea between the U.S., Canada, Mexico, the Caribbean or Bermuda. The passport card is not designed to be a globally interoperable travel document as defined by the International Civil Aviation Organization (ICAO). Designing a card format passport for wide use, including by air travelers, would inadvertently undercut the broad based international effort to strengthen civil aviation security and travel document specifications to address the post 9/11 threat environment. Moreover, in its recent consideration of the FY 2007 Appropriations Act for the Department of Homeland Security, the Congress, while allowing for the use of the passport card by citizens traveling by sea between the U.S., Canada, Mexico, the Caribbean or Bermuda, did not make parallel changes regarding international air travel.

DATES: The Department of State will accept comments from the public up to December 18, 2006.

ADDRESSES: You may submit comments, identified by any of the following methods:

• Mail (paper, disk, or CD-ROM submissions): Comments by mail are to be addressed to the Office of Passport Policy, Planning and Advisory Services, Bureau of Consular Affairs, U.S. Department of State, 2100 Pennsylvania Ave. NW., Suite 300, Washington, DC 20037.

• Internet: Comments by Internet are to be sent to http://www.regulations.gov/index.cfm. This notice can also be viewed from this Internet address.

• Instructions: All submissions must include the agency name and docket number. All comments will be posted without change to http://www.regulations.gov, including any personal information sent with each comment.

FOR FURTHER INFORMATION CONTACT: Consuelo Pachon, Office of Passport Policy, Planning and Advisory Services, Bureau of Consular Affairs, 2100 Pennsylvania Avenue, NW., Suite 3000, Washington, DC, telephone number 202-663-2431.

SUPPLEMENTARY INFORMATION: The U.S. passport is the premier document for international travel by U.S. citizens and nationals because of its security features, professional adjudication, name checking conventions, and interoperability with global machine-readable passports and Electronic Passport (ePassport) standards. Pursuant to 22 U.S.C. 211(a), the Secretary of State is charged with granting and issuing U.S. passports. Consular officers of the Department of State utilize information in the passport books when evaluating applications for replacement passports and determining eligibility for overseas citizens services. DHS and Customs and Border Protection (CBP) also utilize this information in determining citizenship and identity at ports of entry.

Many U.S. citizens are expected to apply for U.S. passports to fulfill the document requirement of the WHTI program under Section 7209 of IRTPA. Passport Services is committed to meeting the increased demand. Passport Services has seen an increase in passport demand from a base level of seven million passports in 2003 to an expected total of 12-12.5 million in fiscal year 2006. Demand for passports is forecast to continue to increase to 16 million or more in FY-2007 and thereafter. However, the Department of State recognizes that there are circumstances where, due to reasons of both cost and ease of use, the traditional book-style U.S. passport may not be the optimal solution for international travelers along the northern and southern land borders of the U.S., or international sea travel between the U.S., Canada, Mexico, the Caribbean, and Bermuda. Therefore, the Department of State, in consultation with the DHS, is proposing an alternative format passport specifically designed for international land and sea travel between the U.S., Canada, Mexico, the Caribbean, and Bermuda.

The Card Format Passport

The term “passport” means any travel document issued by the competent authority of a sovereign nation showing the bearer's identity and nationality that is deemed valid for the entry of the bearer into a foreign country. 22 U.S.C. 211(a) provides that the Secretary of State has the authority to issue passports for the U.S.

Executive Order No. 11295 of August 5, 1966, 31 FR 10603, provides that the Secretary of State is designated and empowered to exercise the authority of the President to designate and prescribe rules governing the granting, issuing, and verifying of passports. 22 U.S.C. 2705 provides that a valid passport, if valid for the maximum period permitted by law, has the same force and effect as proof of citizenship as a certificate of naturalization or certificate of citizenship. Under this proposed rule, passport cards, like passport books, would be issued for a ten-year validity period for U.S. citizens sixteen years old and older, and for a five-year validity period for U.S. citizens less than 16 years of age. The Department of State proposes to utilize the same application procedures and adjudication standards for the passport book and card and to permit U.S. citizens to hold both a passport book and card simultaneously. In addition, if a passport applicant holds a valid passport book, the applicant may apply for a passport card as a “renewal” and pay the lower renewal fee rate.

Because 22 U.S.C. 211(a) does not prescribe limitations on the format of a passport, the Secretary of State proposes to issue a card format for the passport, herein after referred to as the “passport card,” for international land and sea travel between the U.S., Canada, Mexico, the Caribbean, and Bermuda. The passport card will show the bearer's origin, identity, and nationality and will be subject to existing passport statutes. As with the passport book, the passport card will be issued only to those owing allegiance to the U.S.⁴ and will require a written application and oath for first time applicants.⁵ There is precedence for limited use passports. For example, The Department of State issues passports only for one time use to allow the traveler to return to the U.S.

⁴ 22 U.S.C. 212.

⁵ 22 U.S.C. 213.

The passport card is designed specifically to address the needs and travel patterns of those who live in land border communities and frequently cross the border in their day-to-day activities. The technical architecture of the passport card is designed to address the operational needs of pedestrian and vehicular traffic in the land border environment, and international sea travel as discussed herein, but not the operational needs of inspection at airports. Moreover, the passport card is intended not only to enhance security efforts for international land and sea travel between the U.S., Canada, Mexico, the Caribbean, and Bermuda, but is also intended to assist DHS in expediting the movement of legitimate travel within the Western Hemisphere.

In particular, the land border presents complex operational challenges, in that a tremendous amount of traffic must be processed in a short amount of time. There are often several passengers in a vehicle, and multiple vehicles arriving at one time at each land border port-of-entry. Many of the people encountered crossing at the land border ports of entry are frequent crossers. However, CBP does not receive advance information on these land border travelers. For these reasons, the Department of State, in consultation with DHS, agreed to develop a technology-based solution.

The passport card is designed and authorized for international land and sea travel between the U.S., Canada, Mexico, the Caribbean, and Bermuda and will not be a globally interoperable document. Therefore, the ICAO standards and recommendations for globally interoperable passports would not apply to passport cards. The passport card will be a highly secure document with many features consistent with ICAO 9303 Part 3 definitions of TD-1 specifications. It will use a full facial image printed on the card as the biometric identifier in conformity with ICAO standards for ePassport images and utilize the international standard for Machine Readable Zone (MRZ) encryption.

The data printed on the face of the passport card will be the same as that currently shown on the data page of the U.S. passport—bearer's facial image, full name, date and place of birth, passport card number, dates of validity and issuing authority. The reverse side of the passport card will carry a machine-readable zone and notation that the card is valid only for international land and sea travel between the U.S., Canada, Mexico, the Caribbean, and Bermuda. In addition, each passport card will utilize Radio Frequency (RF) technology to store and transmit only a unique reference number that will serve as a link to information safeguarded in a secure database managed by CBP. This reference number will be assigned by Department of State at the time the passport card is issued and no personal or biographic information will be stored or transmitted using Radio Frequency (RF) technology. Presenting the passport card will allow the linked information to be retrieved from the secure DHS database to allow the CBP officer to compare the citizen presenting him or herself for entry into the U.S. with the original issuance record to ensure that it is the same person. This database could include additional information, for example, information about the bearer's membership in one of CBP's international trusted traveler programs, NEXUS, SENTRI, or FAST.

Technology Considered for the Passport Card

The Department of State, in consultation with the DHS, has sought both to ensure the privacy of U.S. citizens' personal information and to facilitate the travel of U.S. citizens in connection with the operational requirements for security and facilitation of travel at especially at land border ports of entry. After reviewing a number of options to provide the CBP officer with appropriate personal information to facilitate the processing of travelers, we believe that the most promising technology is Radio Frequency (RF) technology. This technology utilizes a passive chip deriving its power from the reader that communicates with it. We focused on RF vicinity read (GEN 2) technology and RF proximity read technology.

RF Vicinity Read (GEN-2) Technology

RF vicinity read technology conforms to International Standards Organization (ISO) 18000 6-C specifications. Vicinity read technology would allow the passport card data to be read at a distance of up to 20 feet from the reader. The vicinity read chip would contain only a unique reference number that will serve as a link to information safeguarded in a secure database managed by CBP. In addition to having commercial applications, vicinity-read technology is currently being used in a number of DHS programs. Operationally, it has similarities to CBP land border international trusted traveler programs of NEXUS, SENTRI, and FAST, and DHS's pilot electronic I-94 program currently in place at several land border crossings in that it will only store and transmit a unique reference number and no personal or biographic information. Vicinity read technology is similar to that used in highway toll systems throughout the U.S. From an operational sense, this technology would allow passengers approaching a land crossing in vehicles to present the passport card to the reader easily from within the vehicle and these readers could process information from up to eight cards at one time.

In addition, the use of vicinity technology would provide information to border security personnel further in advance of a traveler's arrival at an inspection booth, facilitate a faster processing of individuals, and provide more opportunities to leverage existing technologies, including programs such as CBP's Trusted Traveler programs NEXUS, FAST, and SENTRI and use of the electronic I-94.

RF Proximity Read Technology

RF proximity read technology conforms to International Standards Organization (ISO) 14443 specifications. In addition to having commercial applications, RF proximity read technology is currently being used in the production of the U.S. ePassport, as well as ePassports of those nations participating in the Visa Waiver Program. The ISO 14443 specification requires the proximity chip to be read within approximately four inches of the reader. Similar to the vicinity RF read technology described above, the RF proximity read chip would contain only a unique reference number to be used as a pointer to a secure database managed by CBP. From an operational sense, this technology would require passengers approaching a land crossing in vehicles to present the passport card in close proximity to the reader outside the vehicle and these readers could process information from a small number of cards at a time.

The Passport Card Technology Selection

DHS selected RF vicinity read technology for its border management system. To ensure compatibility and interoperability with the DHS border management system, and to secure significant travel facilitation advantages, the Department of State proposes to produce the passport card utilizing RF vicinity read technology. The selection of vicinity read technology for the passport card was made in an effort to ensure a seamless operational environment with DHS, and provides the infrastructure support to strengthen our national security at U.S. land borders. The Department of State proposes to produce the card and deliver them with a thin protective sleeve, which is designed to protect the card from unauthorized access. The card could be stored in the sleeve and removed only when needed.

The Department of State solicits comments on the selection of RF vicinity read technology for the passport card.

Obtaining the Passport Card

Both the passport card and the traditional passport book will be issued on the basis of the same documentary requirements: Application forms (DS-11 and DS-82), and adjudication standards for establishing citizenship and identity. Building on existing infrastructure, the Department of State will acquire the capability to produce the passport card, while concurrently increasing capacity to produce traditional passport books.

The U.S. Postal Service (USPS), and other designated local government entities, partner with the Department of State in serving as acceptance agencies for passport applications. Currently there are over 7,500 designated post offices and other passport acceptance facilities nation-wide. Since the passport book and card will be processed using the same infrastructure and same procedures prior to production of the travel document itself, applicants will be able to submit applications for passport cards through the network of passport acceptance agents. The anticipated turn-around time for processing would be the same for both the passport book and card. Citizens outside the U.S. will be able to apply for the passport card at U.S. embassies or consulates abroad; however, all passport cards will be produced in the U.S.

U.S. citizens will be able to hold both a passport card and a traditional passport book concurrently. In addition, applications for a passport book and card can be processed at the same time, using the same form, photograph and supporting documentation. Further, where the application is made for both the passport book and card, only one execution fee will be assessed. Adult applicants with valid passports may apply for passport cards as renewals, using form DS-82 (Passport Applications by Mail), which do not require personal appearance or execution of the passport application form. Details regarding application procedures will be made available at the time the revised passport applications are available. Like other full validity passports, one can apply for the passport card at embassies and consulates abroad. Passport cards applied for abroad will be delivered in the same manner as passport books are delivered abroad. Passport cards will not be issued abroad.

The fee for the passport book and passport card is determined based on a cost of service analysis, consistent with OMB Circular A-25, User Charges, to recover the costs of the services when a specific beneficiary can be identified. In March 2006, Consular Affairs contracted with an independent third party to review the last cost of service study for passports (CY 2004), in light of WHTI, and the increase in workload to enable the Department of State to determine several fees including:

• The cost for the new card-format passport, and

• Whether the cost of the passport book could be reduced.

Application Fee for the Passport Card

Based on the recommendation of the independent third party, an application fee of $20.00 is proposed for passport cards issued to adults (age 16 and up), valid for ten years. A fee of $10.00 is proposed for passport cards issued to minors (under age 16), valid for five years. The basis of the passport card application fees is the direct costs of producing passport cards, the card stock, technology, adjudicating the application, printing the biographic information on the card, and priority mail return of the card. Applicants will also be required to pay the execution and expedite fees, if applicable. The execution fee for persons seeking to apply for a passport card and passport book will be $25.

Execution Fee

Certain applicants are required to execute the application DS-11 in the presence of a passport acceptance agent, passport specialist, or consular officer overseas. Therefore, the Department of State separately reviewed the cost factors for the execution of passport applications. By far, the largest number of first time passport applications are made by those who appear in person at local USPS or government offices, most often county clerks or clerks of the court. The fee is retained by these designated passport acceptance facilities to cover their costs of providing this service.

First time adult passport applicants and all minors under age 16 are required to apply in person. Adults applying for replacement passports that have been lost, stolen or mutilated are also required to appear in person, as are those holding expired passports issued more than 15 years previously, or when the bearer was a minor.

The execution fee was set at $30.00 for each application during the last cost of service study. Based on an internal review of our cost of service, and information from the USPS, the Department of State is proposing to reduce the execution fee to $25.00. All fees will be subject to periodic review in the course of the Bureau of Consular Affairs comprehensive cost of service studies to account for operational changes, technological advances and economies of scale.

Application for Both Passport Book and Card

As noted above, a U.S. citizen will be able to apply for both a passport book and passport card in the same application. The execution fee will be assessed only once, although a separate application fee will be assessed for each type of passport.

Regulatory Findings

Administrative Procedure Act

In accordance with provisions of the Administrative Procedure Act governing rules promulgated by federal agencies that affect the public (5 U.S.C. 552), the Department of State is publishing this proposed rule and inviting public comment.

Regulatory Flexibility Act

The Department of State, in accordance with the Regulatory Flexibility Act (5 U.S.C. 605(b)), has reviewed this regulation and, by approving it, certifies that this rule will not have a significant economic impact on a substantial number of small entities.

Unfunded Mandates Act of 1995

This rule does not involve a mandate that will result in the expenditure by State, local, and tribal governments, in the aggregate, or by the private sector, of $100 million or more in any year and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of U.S.-based companies to compete with foreign-based companies in domestic and import markets.

Executive Order 12866

The Department of State has reviewed this proposed rule to ensure its consistency with the regulatory philosophy and principles set forth in Executive Order 12866. The Department does not consider the proposed rule to be an economically significant regulatory action within the scope of section 3(f)(1) of the Executive Order since it is not likely to have an annual effect on the economy of $100 million or more or to adversely affect in a material way the economy, a sector of the economy, productivity, competition, jobs, the environment, public health or safety, or State, local, or tribal governments or communities. However, the proposed rule does have important policy implications. Accordingly, it has been provided to the Office of Management and Budget (OMB) for review.

Executive Order 13132

This regulation will not have substantial direct effects on the States, on the relationship between the national government and the States, or on the distribution of power and responsibilities among the various levels of government. Therefore, in accordance with section 6 of Executive Order 13132, it is determined that this rule does not have sufficient federalism implications to require consultations or warrant the preparation of a federalism summary impact statement.

Paperwork Reduction Act

This rule does not impose any new reporting or recordkeeping requirements subject to the Paperwork Reduction Act, 44 U.S.C. Chapter 35.

List of Subjects

22 CFR Part 22

Passports and visas.

22 CFR Part 51

Administrative practice and procedure, Drug traffic control, Passports and visas, reporting and recordkeeping requirements.

Accordingly, for the reasons set forth in the preamble, 22 CFR Parts 22 and 51 are proposed to be amended as follows:

PART 22—[AMENDED]

1. The authority citation for part 22 continues to read as follows:

Authority: 8 U.S.C. 1153 note, 1351; 10 U.S.C. 2602(c); 22 U.S.C. 214, 2504(a), 4201, 4206, 4215, 4219; 31 U.S.C. 9701; Public Law 105-277, 112 Stat. 2681 et seq.; Public Law 108-447; E.O. 10718, 22 FR 4632, 3 CFR, 1954-1958 Comp., p. 382; E.O. 11295, 31 FR 10603, 3 CFR, 1966-1970 Comp., p. 570.

2. Revise § 22.1 to read as follows:

§ 22.1 Schedule of fees.

The following table sets forth the changes to the U.S. Department of State's Schedule of Fees for Consular Services:

Schedule of Fees for Consular Services
Item No. | Fee
Passport and Citizenship Services
1. Passport Execution: Required for first-time applicants and others who must apply in person [01—Passport Execution] | $25
* * * * * * *
9. Passport Card Application Services for:
(a) Applicants age 16 or over (including renewals) [Adult Passport Card] | $20
(b) Applicants under age 16 [Minor Passport Card] | $10
(Item no. 10 vacant.) |
* * * * * * *

PART 51—PASSPORTS

3. The authority citation for part 51 continues to read as follows:

Authority: 22 U.S.C. 211a, 213, 2651a, 2671(d)(3), 2714 and 3926; 31 U.S.C. 9701; E.O. 11295, 3 CFR, 1966-1970 Comp., p. 570; sec. 236, Public Law 106-113, 113 stat. 1501A-430; 18 U.S.C. 1621 (a)(2).

4. Amend § 51.3 by adding a new paragraph (d) as follows:

§ 51.3 Types of passports.

* * * * *

(d) Passport card. A passport card is valid for departure from and entry to the U.S. through land and sea ports of entry between the U.S. and Mexico, Canada, or the Caribbean and Bermuda. It is not a globally interoperable international travel document.

5. The heading of § 51.4 (b) is revised to read as follows:

§ 51.4 Validity of passports.

* * * * *

(b) Period of validity of a regular passport and a card format passport. * * *

* * * * *

6. The introductory paragraph of § 51. 61 and the first sentence of § 51.61(a) are revised to read as follows:

§ 51.61 Passport fees.

Fees, including execution fees, shall be collected for the following passport services in the amounts prescribed in the Schedule of Fees for Consular Services (22 CFR 22.1)

(a) A fee for each passport application filed, for both book and card format passports, which fee shall vary depending on the age of the applicant. * * *

* * * * *

Dated: October 6, 2006.
Wanda Nesbitt,
Principal Deputy Assistant Secretary for Consular Affairs, Department of State.

[FR Doc. E6-17237 Filed 10-16-06; 8:45 am]

BILLING CODE 4710-06-P